DEPARTMENT OF HEALTH AND HUMAN SERVICES

Health Resources and Services Administration

Part C Early Intervention Services Grant Under the Ryan White HIV/AIDS Program

AGENCY: Health Resources and Services Administration (HRSA), HHS .

ACTION: Notice of Non-competitive Award of Part C Funds for the Rural Health Group.

SUMMARY: HRSA will be awarding non-competitively Part C funds to support comprehensive primary care services for persons living with HIV/AIDS, including primary medical care, laboratory testing, oral health care, outpatient mental health and substance abuse treatment, specialty and subspecialty care, referrals for health and support services and adherence monitoring/education services to the Rural Health Group in order to ensure continuity of critical HIV medical care and treatment services, and to avoid a disruption of HIV clinical care to clients in Henderson, North Carolina, and the surrounding counties.

SUPPLEMENTARY INFORMATION: Grantee of record: Maria Parham Medical Center, Henderson, North Carolina.

Intended recipient of the award: Rural Health Group, Roanoke Rapids, North Carolina.

Amount of the award: $426,562 to ensure ongoing clinical services to the target population.

Authority: Section 2651 of the Public Health Service Act, 42 U.S.C. 300ff-51.

CFDA Number: 93.918.

Project period: April 1, 2010, to June 30, 2011. The period of support for this award is from April 1, 2010, to June 30, 2011.

Justification for the Exception to Competition

Critical funding for HIV medical care and treatment services to clients in northern North Carolina will be continued through a non-competitive award to the Rural Health Group, because it has the fiscal and administrative infrastructure to administer the Part C Grant. This is a temporary replacement award, as the previous grant recipient serving this population notified HRSA that it could not continue providing services after March 31, 2010. HRSA's HIV/AIDS Bureau identified the Rural Health Group as the best qualified entity for this temporary grant, because it is a community health center funded by section 330 of the Public Health Service Act. As of January 1, 2010, the Maria Parham Medical Center has contracted with the Rural Health Group to provide services temporarily, and the program staff has been transferred to the Rural Health Group. The Rural Health Group can ensure comprehensive services are provided including primary medical care including antiretroviral therapies; prevention education and medication adherence teaching; referrals for mental health, substance abuse and dental services; and on-site medical HIV case management services. The additional funding provided would enhance retaining the targeted population in care. The Rural Health Group is able to provide critical services with the least amount of disruption to the service population while the service area is re-competed.

This supplement will cover the time period from April 1, 2010, through June 30, 2011. This service area will be included in the upcoming competition for the Part C HIV Early Intervention Services for project periods starting July, 2011.

FOR FURTHER INFORMATION CONTACT: Kathleen Treat, by e-mail ktreat@hrsa.gov, or by phone at 301-443-7602.

Dated: May 12, 2010.
Mary K. Wakefield,
Administrator.

[FR Doc. 2010-12047 Filed 5-19-10; 8:45 am]

BILLING CODE 4165-15-P